DEPARTMENT OF THE INTERIOR

Bureau of Land Management

[AZ-420-06-1610-DP-085A]

Notice of Availability of the Ironwood Forest National Monument Draft Resource Management Plan and Draft Environmental Impact Statement (DRMP/DEIS), Arizona

AGENCY: Bureau of Land Management, Interior.

ACTION: Notice of availability.

SUMMARY: In accordance with the National Environmental Policy Act of 1969 (NEPA, 42 U.S.C. 4321 et seq.) and the Federal Land Policy and Management Act of 1976 (FLPMA, 43 U.S.C. 1701 et seq.), the Bureau of Land Management (BLM) has prepared a Draft Resource Management Plan and Draft Environmental Impact Statement (DRMP/DEIS) for the Ironwood Forest National Monument and by this notice is announcing the opening of the comment period.

DATES: To assure that they will be considered, BLM must receive written comments on the DRMP/DEIS within 90 days following the date the Environmental Protection Agency publishes its Notice of Availability in the Federal Register. Public meetings and other public-involvement activities will be announced at least 15 days in advance through local media and via the Internet at http://www.blm.gov/az/news.htm.

ADDRESSES: Written comments may be mailed to Mark Lambert, Planning and Environmental Coordinator, Ironwood Forest National Monument, Tucson Field Office, 12661 East Broadway Boulevard, Tucson, Arizona 85748-7208. You may also hand-deliver comments to the above listed address. Electronic comments will be accepted and should be sent to: AZ_IFNM_RMP@blm.gov. Oral comments will also be accepted and recorded at public meetings held during the 90-day public review and comment period.

FOR FURTHER INFORMATION CONTACT: Mark Lambert, Planning and Environmental Coordinator, Bureau of Land Management, Tucson Field Office, 12661 East Broadway Boulevard, Tucson, Arizona 85748-7208, Telephone 520-258-7200.

SUPPLEMENTARY INFORMATION: The Ironwood Forest National Monument, established by Presidential Proclamation on June 9, 2000, encompasses approximately 128,686 acres of Federal land administered by the BLM. The DRMP/DEIS affects only Federal lands and Federal interests located within the established boundary of the monument. The BLM's Tucson Field Office has the responsibility of planning for and management of Federal lands within the monument. Issues identified as part of the planning process and addressed in the DRMP/DEIS include air resources, biological resources, cultural resources, fire management, grazing management, hazardous materials, lands and realty, mineral and energy resources, Native American issues, recreation, social and economic conditions, soils, wilderness characteristics, transportation and access, visual resources, and water resources. The DRMP/DEIS includes strategies for protecting and preserving the biological, cultural, recreational, geological, educational, scientific, and scenic values for which the monument was established. Four alternatives have been developed in response to the issues. The “no action” alternative represents current management of the Ironwood Forest National Monument. Three additional “action” alternatives present reasonable, yet varying, management scenarios. The alternatives range from emphasizing maintenance of the naturalness of Ironwood Forest National Monument (by restricting some human uses) to emphasizing continued human uses, while still protecting the objects and resources for which the monument was established. The no-action alternative proposes the continued designation of the Waterman Mountains Area of Critical Environmental Concern (ACEC). This ACEC is approximately 3,342 acres and was designated to protect the endangered Nichol Turk's head cactus, provide optimum habitat for naturally occurring populations of Nichol Turk's head cactus, and assist in its recovery. The following resource-use limitation applies to this ACEC: Prohibit land use authorizations except along existing roads and trails. The action alternatives do not propose designation of this ACEC. For detailed information, refer to Chapter 2 of the DRMP/DEIS, Special Area Designations section.

The range of alternatives in the DRMP/DEIS evaluates planning decisions brought forward from current BLM planning documents, including the Phoenix Resource Management Plan (1989), Arizona Standards for Rangeland Health and Guidelines for Grazing Administration (1987), and the Arizona Statewide Land Use Plan Amendment for Fire, Fuels, and Air Quality Management (2003). A Proposed Resource Management Plan and Final Environmental Impact Statement, as well as a Record of Decision will be prepared by the BLM for the Ironwood Forest National Monument Resource Management Plan in accordance with planning regulations at 43 CFR part 1610 and NEPA at 40 CFR part 1502.

Public comments, including names and street addresses of respondents, will be available for public review at: Bureau of Land Management, Tucson Field Office, 12661 East Broadway Boulevard Tucson, Arizona 85748-7208, during regular business hours (8 a.m. to 4 p.m.), Monday through Friday, except holidays. Individual respondents may request confidentiality. If you wish to withhold your name and/or street address from public review or from disclosure under the Freedom of Information Act (FOIA), you must state this prominently at the beginning of your written comment. Such requests will be honored to the extent allowed by law. All submissions from organizations or businesses, and from individuals identifying themselves as representatives or officials of organizations or businesses, will be made available for public inspection in their entirety.

Copies of the Ironwood Forest National Monument DRMP/DEIS are available for review via the Internet at http://www.blm.gov/az/env_docs/library/rmps/rmps.htm. Electronic (CD-ROM) and paper copies are available for review at the BLM, Tucson Field Office. Electronic (on CD-ROM) and paper copies also may be obtained by contacting the BLM at the address and phone number provided above.

Dated: October 25, 2006.
Michael A. Taylor,
Acting State Director.

Editorial Note: This document was received at the Office of the Federal Register on February 26, 2007.

[FR Doc. E7-3626 Filed 3-1-07; 8:45 am]

BILLING CODE 4310-32-P